FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 26, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0986.

Title: Competitive Carrier Line Count Report and Self-Certification as a Rural Carrier.

Form Numbers: FCC Form 525 and new FCC Form 481.

Type of Review: Revision of a currently approved collection.

Respondents: Business or other for-profit entities, not-for-profit institutions and state, local or tribal government.

Number of Respondents: 8,690 respondents; 8,804 responses.

Estimated Time per Response: .5 hours to 100 hours.

Frequency of Response: On occasion, quarterly and annual reporting requirements, recordkeeping requirement and third party disclosure requirement.

Obligation To Respond: Required to obtain or retain benefits. Statutory authority for this information collection is contained in 47 U.S.C. sections 151, 154(i) and (j), 205, 221(c), 254, 303(r), 403, 410, and 1302 of the Communications Act of 1934, as amended.

Total Annual Burden: 272,017 hours.

Total Annual Cost: N/A.

Privacy Impact Assessment: N/A.

Nature and Extent of Confidentiality: We note that USAC must preserve the confidentiality of all data obtained from respondents and contributors to the universal service support program mechanism; must not use the data except for purposes of administering the universal service support program; and must not disclose data in company-specific form unless directed to do so by the Commission.

Needs and Uses: The Commission will submit this information collection after this comment period to obtain the full, three year clearance from the Office of Management and Budget (OMB). The Commission is requesting approval for a revision.

There are no changes to the existing FCC Form 525. However, the Commission is requesting OMB approval for a new FCC Form 481, Annual Reporting Form for High-Cost Recipients and other new and modified information collection requirements.

In November 2011, the Commission adopted an order reforming its high-cost universal service support mechanisms. Connect America Fund; A National Broadband Plan for Our Future; Establish Just and Reasonable Rates for Local Exchange Carriers; High-Cost Universal Service Support; Developing a Unified Intercarrier Compensation Regime; Federal-State Joint Board on Universal Service; Lifeline and Link-Up; Universal Service Reform—Mobility Fund, WC Docket Nos. 10-90, 07-135, 05-337, 03-109; GN Docket No. 09-51; CC Docket Nos. 01-92, 96-45; WT Docket No. 10-208, FCC 11-161, Order and Further Notice of Proposed Rulemaking, 26 FCC Rcd 17663 (2011) (USF/ICC Transformation Order); see also Connect America Fund et al., WC Docket No. 10-90 et al., Third Order on Reconsideration, 27 FCC Rcd 5622 (2012); Connect America Fund et al., WC Docket No. 10-90 et al., Order, 27 FCC Rcd 605 (Wireline Comp. Bur. 2012); Connect America Fund et al., WC Docket No. 10-90 et al., Fifth Order on Reconsideration, 27 FCC Rcd 14549 (2012).

In its March 2012 supporting statement which was submitted and approved by OMB, the Commission implemented some of the information collections required by this order, but also noted that at a later date it planned to submit additional revisions or new collections for OMB review to address other reforms adopted in the order. This revision addresses those additional requirements.

The Order provides: (1) Requires that any carrier receiving Connect America support to file a five-year service quality improvement plan by July 1, 2013, and to file annually thereafter a progress report on its plan; (2) Seeks to ensure parity between urban and rural areas for broadband and voice rates. To accomplish this, the order adopts a rule requiring carriers to report pricing information for both voice and broadband offerings; (3) Requires that a support recipient report the holding company, operating companies, affiliates, and any branding (a “dba” or “doing-business-as company” or brand designation), for each such entity by Study Area Codes; (4) ETCs are required to submit a self-certification that the pricing of their voice services is no more than two standard deviations above the national average urban rate for voice services; (5) ETCs are required to submit information and data required by 47 CFR section 54.313(a)(1)-(7) separately broken out for both voice and broadband service; (6) recipients of high-cost support that serve Tribal lands must report on their Tribal engagement; (7) Recipients of frozen high-cost support must annually certify that increasing levels of support have been used to achieve the goal of universal availability of voice and broadband; (8) All price cap carriers that receive support pursuant to 47 CFR section 54.304, to offset reductions in access charges, must use such support to build and operate broadband-capable networks used to offer the provider's own retail service in areas substantially unserved by an unsubsidized competitor; (9) Within three years of the implementation of Phase II, funding recipients must certify that the company is providing broadband service to 85% of its supported locations at actual speeds of at least 4 Mbps downstream and 1 Mbps upstream, with latency suitable for real-time applications, including Voice over Internet Protocol, and usage capacity that is reasonably comparable to comparable offerings in urban areas. Within five years of the implementation of Phase II, recipients must certify that the company is providing broadband service to 100% of its supported locations at actual speeds of at least 4 Mbps downstream and 1 Mbps upstream, and a percentage of supported locations, as specified by the Wireline Competition Bureau, at actual speeds of at least 6 Mbps downstream and 1.5 Mbps upstream, with latency suitable for real-time applications, including Voice over Internet Protocol, and usage capacity that is reasonably comparable to comparable offerings in urban areas; (10) Requires a progress report on the company's five-year service quality plan; (11) Rate-of-return carriers are required to provide broadband service upon reasonable request; (12) Privately held rate-of-return carriers that receive high-cost support must submit a various forms of financial statements. Those companies that borrow funds from the Rural Utilities Service (RUS) must submit a copy of their RUS Operating Report for Telecommunications Borrowers; (13) Recognizes that satellite backhaul may limit the performance of broadband networks as compared to terrestrial backhaul, thus carriers compelled to rely exclusively on satellite backhaul in their study area must certify that no terrestrial backhaul options exist; (14) All incumbent local exchange carrier recipients of high-cost support must already report all of their rates for residential local service for all portions of their service area, as well as state fees (state subscriber line charges, state universal service fees and mandatory extended area service charges), to the extent the sum of those rates and fees are below the rate floor, and the number of lines for each rate specified.

OMB Control Number: 3060-1030.

Title: Service Rules for Advance Wireless Services (AWS) in the 1.7 GHz and 2.1 GHz.

Form Number: N/A.

Type of Review: Revision of a currently approved collection.

Respondents: Business or other for-profit entities, not-for-profit institutions, Federal Government, and state, local or tribal government.

Number of Respondents: 979 respondents; 1,625 responses.

Estimated Time per Response: .25 hours to 5 hours.

Frequency of Response: On occasion, annual and every 10 year reporting requirements, recordkeeping requirement and third party disclosure requirement.

Obligation to Respond: Required to obtain or retain benefits. Statutory authority for this information collection is contained in 47 U.S.C. sections 151, 152, 154(i), 201, 301, 302, 303(f), 303(g), 303(r), 307, 308, 309, 310, 316, 319, 324, 332, and 333 of the Communications Act of 1934, as amended; and the Commercial Spectrum Enhancement Act (CSEA), Public Law 108-494, 118 Stat. 3896, 3992 (2004).

Total Annual Burden: 32,384 hours.

Total Annual Cost: $581,800.

Privacy Impact Assessment: N/A.

Nature and Extent of Confidentiality: There is no need for confidentiality except as follows: some relocators that seek reimbursement through the FCC cost-sharing plan administered by the clearinghouses will be required to retain records for more than three years, as will the clearinghouses themselves.

Needs and Uses: The Commission will submit this information collection after this comment period to obtain the full, three year clearance from the Office of Management and Budget (OMB). The Commission is requesting OMB approval for a revision.

The Commission in the revisions proposed in the AWS-4 NPRM, FCC 12-32, which was submitted for OMB approval, proposed terrestrial service, technical, assignment and licensing rules for the 2000-2020 MHz and 2180-2200 MHz spectrum bands. These proposed rules were designed to provide for flexible use of this spectrum, to encourage innovation and investment in mobile broadband, and to provide a stable regulatory environment in which broadband deployment could develop. The AWS-4 NPRM proposed terrestrial service rules for these spectrum bands that would generally follow the Commission's Part 27 rules, which apply to flexible use services (such as AWS-1), modified as necessary to account for issues unique to the 2000-2020 MHz and 2180-2200 MHz bands. The proposals in the AWS-4 NPRM included band-specific buildout, renewal, and discontinuance of service criteria. Given the proximity of these spectrum bands to spectrum bands previously identified as Advanced Wireless Services (AWS), the NPRM referred to these spectrum bands as “AWS-4” or “AWS-4 spectrum”. The AWS-4 NPRM proposed to expand spectrum available for AWS, which the Commission first adopted in theAWS-1 Report and Order.

For this revision, subject to OMB approval, the Commission in the AWS-4 Report and Order, FCC 12-151, adopts flexible use rules for 40 megahertz of spectrum in the 2 GHz band (2000-2020 MHz and 2180-2200 MHz) that would increase the nation's supply of spectrum for mobile broadband. We adopt AWS-4 terrestrial service, technical, and licensing rules that generally follow the Commission's Part 27 flexible use rules, modified as necessary to account for issues unique to the AWS-4 bands.

Recordkeeping, reporting and third party disclosure requirements associated with the items listed in paragraph one of the supporting statement that is submitted to OMB for approval, will be used by incumbent licensees and new entrants to negotiate relocation agreements and to coordinate operations to avoid interference. The information will also be used by the clearinghouses to maintain a national database, determine reimbursement obligations of entrants pursuant to the Commission's rules, and notify such entrants of their reimbursement obligations. Additionally, the information will be used to facilitate dispute resolution and for FCC oversight of the clearinghouses and the cost-sharing plan.

Federal Communications Commission.
Marlene H. Dortch,
Secretary.

[FR Doc. 2013-04167 Filed 2-22-13; 8:45 am]

BILLING CODE 6712-01-P